DEPARTMENT OF THE INTERIOR

National Park Service

[NPS-WASO-D-COS-POL-30832; PPWODIREP0; PPMPSAS1Y.YP0000]

Notice of the December 10, 2020, Teleconference Meeting of the National Park System Advisory Board

AGENCY: National Park Service, Interior.

ACTION: Notice of teleconference meeting.

SUMMARY: In accordance with the Federal Advisory Committee Act of 1972, the National Park Service (NPS) is hereby giving notice that the National Park System Advisory Board (Board) will meet as noted below. The agenda may include the review of proposed actions regarding the National Historic Landmarks (NHL) Program and National Natural Landmarks (NNL) Program. Interested parties are encouraged to submit written comments and recommendations that will be presented to the Board. Interested parties also may attend the board meeting and upon request may address the Board concerning an area's national significance.

DATES: The teleconference meeting will be held on Thursday, December 10, 2020, from 11:00 a.m., until 5:00 p.m., Eastern Standard Time. For instructions on registering to attend, submitting written material, or giving an oral presentation at the meeting, please see guidance under FOR FURTHER INFORMATION CONTACT.

ADDRESSES: The meeting will be held virtually at the date and time noted above.

FOR FURTHER INFORMATION CONTACT: (a) For information concerning attending the Board meeting or to request to address the Board, contact Joshua Winchell, Staff Director for the National Park System Advisory Board, Office of Policy, National Park Service, telephone (202) 641-4467, or email joshua_winchell@nps.gov. (b) To submit a written statement specific to, or request information about, any NHL matter listed below, or for information about the NHL Program or NHL designation process and the effects of designation, contact Sherry A. Frear, RLA, Chief, National Register of Historic Places and National Historic Landmarks Program, National Park Service, email sherry_frear@nps.gov. Written comments specific to any NHL matter listed below must be submitted by no later than December 8, 2020. (c) To submit a written statement specific to, or request information about, the NNL matter listed below, or for information about the Program or NNL designation process and the effects of designation, contact Heather Eggleston, Manager, National Natural Landmarks Program, National Park Service, email heather_eggleston@nps.gov. Written comments specific to any NNL matter listed below must be submitted by no later than December 8, 2020.

SUPPLEMENTARY INFORMATION: The Board has been established by authority of the Secretary of the Interior (Secretary) under 54 U.S.C. 100906 and is regulated by the Federal Advisory Committee Act.

The Board will receive briefings and discuss topics related to improving the visitor experience in NPS managed units and workforce planning for the next century and may consider proposed NHL and NNL actions. The final agenda and briefing materials will be posted to the Board's website prior to the meeting at https://www.nps.gov/advisoryboard.htm.

A. National Historic Landmarks (NHL) Program

NHL Program matters will be considered, during which the Board may consider the following:

Nominations for NHL Designation

Alabama

• Monroe County Courthouse, Monroeville, AL

Arizona

• Klagetoh (Leegito) Chapter House, Klagetoh, AZ

Colorado

• Colorado Fuel & Iron Co. Administrative Complex, Pueblo CO

Florida

• Dudley Farm, Newberry, Alachua County, FL

Indiana

• Fort Ouiatenon Archeological District, Tippecanoe County, IN

Iowa

• Surf Ballroom, Clear Lake, IA

Maryland

• Frieda Fromm-Reichmann Cottage, Rockville, MD

• Tolson's Chapel and School, Sharpsburg, MD

Massachusetts

• Mary Baker Eddy House, Lynn MA

Texas

• Hueco Tanks, El Paso County, TX

Wisconsin

• University of Wisconsin Arboretum, Madison, WI

B. National Natural Landmarks (NNL) Program

NNL Program matters will be considered, during which the Board may consider the following:

Nomination for NNL Designation

California

• Lanphere and Ma-le'l Dunes, Humboldt County, CA

The meeting is open to the public. Interested persons may choose to make oral comments at the meeting during the designated time for this purpose. Depending on the number of people wishing to comment and the time available, the amount of time for oral comments may be limited. Interested parties should contact the Staff Director for the Board (see FOR FURTHER INFORMATION CONTACT) for advance placement on the public speaker list for this meeting. Members of the public may also choose to submit written comments by emailing them to joshua_winchell@nps.gov.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2020-22116 Filed 10-7-20; 8:45 am]

BILLING CODE 4312-52-P